DEPARTMENT OF TRANSPORTATION

Federal Transit Administration

DEPARTMENT OF VETARANS AFFAIRS

Limitation on Claims Against Proposed Public Transportation Projects

AGENCY: Federal Transit Administration (FTA); DOT; U.S. Department of Veterans Affairs (VA).

ACTION: Notice of limitation on claims for judicial review of actions by the VA.

SUMMARY: FTA is issuing this notice to announce actions taken by the VA that are final within the meaning of the United States Code and to activate the limitation on any claims that may challenge these actions. The actions relate to the construction and operation of Section 3 of the Los Angeles County Metropolitan Transportation Authority (LACMTA) Westside Purple Line Extension project (the WPLE Project).

DATES: By this notice, FTA is advising the public of final agency actions subject to 23 U.S.C. 139(l). A claim seeking judicial review of the identified Federal agency action related to the Project will be barred unless the claim is filed on or before July 20, 2020. If the Federal law that authorizes judicial review of a claim provides a time period of less than 150 days for filing such claim, then that shorter time period still applies.

FOR FURTHER INFORMATION CONTACT:

For FTA: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9 a.m. to 5 p.m., Monday through Friday, except Federal holidays.

For VA: Glenn Elliott, Environmental Officer, U.S. Department of Veterans Affairs, Construction and Facilities Management Office, 425 I Street NW, Washington, DC 20001; telephone: (202) 632-5879.

SUPPLEMENTARY INFORMATION: Notice is hereby given that VA has taken final agency actions by issuing certain approvals related to the Project. The actions on the project, as well as the laws under which such actions were taken, are described in the documentation issued in connection with the project to comply with the National Environmental Policy Act (NEPA) and in other documents in the VA administrative record for the project. Interested parties may contact the VA Office of Construction and Facilities Management for more information on these VA approvals. Contact information for the appropriate VA representative is above. Contact information for FTA's Regional Offices may be found at https://www.fta.dot.gov.

This notice applies to all VA decisions on the listed project as of the issuance date of this notice and all laws under which such actions were taken, including, but not limited to, NEPA [42 U.S.C. 4321-4375], Section 106 of the National Historic Preservation Act [54 U.S.C. 306108], and the Clean Water Act [33 U.S.C. 1251-1387]. This notice does not, however, alter or extend the limitation period for challenges of project decisions subject to previous notices published in the Federal Register. The project and actions that is the subject of this notice follow:

Project name and location: Westside Purple Line Extension (WPLE) Project, Los Angeles, California. Project Sponsor: Los Angeles County Metropolitan Transportation Authority (LACMTA). Project description: The WPLE Project is an approximately 9-mile heavy rail transit subway that will operate as an extension of the Metro Purple line from its current western terminus at the Wilshire/Western Station to a new western terminus near the Veterans Affairs West Los Angeles (WLA) Campus. Section 3 of the WPLE Project extends from Century City to Westwood/VA Hospital with two new stations: Westwood/UCLA and Westwood/VA Hospital. Final agency action: Department of Veterans Affairs Record of Decision for Construction and Operation of the Metro Westside Purple Line Extension Project within the Veterans Affairs West Los Angeles Campus, dated December 19, 2019.

Supporting documentation: Westside Subway Extension Final Environmental Impact Statement, dated March 2012, Final Supplemental Environmental Impact Statement, dated November 2017, and Final 130(c) Environmental Technical Memorandum, dated December 2018, prepared by FTA and LACMTA and adopted by VA on June 21, 2019. This notice applies to all Federal agency decisions as of the issuance date of this notice and all laws under which the final actions were taken.

Authority: 23 U.S.C. 139(l)(1).

Felicia L. James,
Associate Administrator for Planning and Environment.

[FR Doc. 2020-03171 Filed 2-18-20; 8:45 am]

BILLING CODE P